DEPARTMENT OF THE INTERIOR

Bureau of Land Management

[CA-310-0777-XG]

Notice of Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U. S. Department of the Interior, Bureau of Land Management (BLM) Northwest California Resource Advisory Council will meet as indicated below.

DATES: The meeting will be held Wednesday and Thursday, Oct. 19 and 20, 2005, in Arcata, California. On Oct. 19, the council members convene at 10 a.m. at the BLM Arcata Field Office, 1695 Heindon Rd., and depart immediately for a field tour of public lands managed by the Arcata Field Office. Members of the public are welcome on the tour, but they must provide their own transportation and lunch. On Oct. 20, the council convenes at 8 a.m. in the Conference Center of the Hotel Arcata, 708 Ninth St., Arcata. Time for public comment has been set aside for 1 p.m, Thursday, Oct. 20.

FOR FURTHER INFORMATION CONTACT: Rich Burns, BLM Ukiah Field Office manager, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will include the Ukiah Resource Management Plan, an update on the California Coastal National Monument Resource Management Plan, a status report on the proposed Sacramento River Bend National Recreation Area and a report on special recreation use permits. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: Sept. 19, 2005.
Joseph J. Fontana,
Public Affairs Officer.

[FR Doc. 05-19099 Filed 9-23-05; 8:45 am]

BILLING CODE 4310-40-P